DEPARTMENT OF DEFENSE

Office of the Secretary

Notice of Intent to Grant an Exclusive License; PadJack, Inc.

AGENCY: National Security Agency, DoD.

ACTION: Notice.

SUMMARY: The National Security Agency hereby gives notice of its intent to grant PadJack, Inc. a revocable exclusive license to practice the following Government-Owned invention as described in the following: Patent Application Serial No. 12/803,042 entitled “Locking Seal For Data Ports.”

The above-mentioned invention is assigned to the United States Government as represented by the National Security Agency.

DATES: Anyone wishing to object to the grant of this license has fifteen (15) days from the date of this notice publication to file written objections along with supporting evidence, if any.

ADDRESSES: Written objections are to be filed with the National Security Agency Technology Transfer Program, 9800 Savage Road, Suite 6541, Fort George G. Meade, MD 20755-6541.

FOR FURTHER INFORMATION CONTACT: Marian T. Roche, Director, Technology Transfer Program, 9800 Savage Road, Suite 6541, Fort George G. Meade, MD 20755-6541, telephone (443) 479-9569.

Dated: July 17, 2012.
Aaron Siegel,
Alternate OSD Federal Register Liaison Officer, Department of Defense.

[FR Doc. 2012-17737 Filed 7-19-12; 8:45 am]

BILLING CODE 5001-06-P